DEPARTMENT OF COMMERCE

International Trade Administration

Overseas Trade Missions

AGENCY: International Trade Administration, Department of Commerce.

ACTION: Notice.

SUMMARY: The Department of Commerce invites U.S. companies to participate in the following overseas trade missions to be held between April and May 2000. For a more complete description of the trade mission, obtain a copy of the mission statement from the Project Officer indicated below. The recruitment and selection of private sector participants for these missions will be conducted according to the Statement of Policy Governing Department of Commerce Overseas Trade Missions announced by Secretary Daley on March 3, 1997.

Thailand Airports 2000

Bangkok, Thailand, April 26-27, 2000, Recruitment closes April 7, 2000.

For further information contact: Alain DeSarran, U. S. Department of Commerce, Tel: 202-482-2422, Fax: 202-501-6165, E-mail: ADeSarran@mail.doc.gov

Aerospace Trade Mission to Brazil

Rio de Janeiro, Sao Paulo, Brazil, May 14-20, 2000, Recruitment closes April 25, 2000.

For further information contact: Kim Wells, U.S. Department of Commerce, Tel: 202-482-2232, Fax: 202-482-3383, E-Mail: Kim_Wells@ita.doc.gov

U.S. Information Technology Trade Mission to Far East Asia

Hong Kong, China, Taipei, Taiwan, Seoul and Pusan, South Korea, June 8-17, 2000, Recruitment closes April 15, 2000

For further information contact: Tu-Trang Phan, U.S. Department of Commerce, Tel: 202-482-0480, Fax: 202-482-3002, E-mail: Tu-Trang_Phan@ita.doc.gov

For further information contact: Reginald Beckham, U.S. Department of Commerce. Tel: 202-482-5478, Fax: 202-482-1999.

Dated: March 15, 2000.
Tom Nisbet,
Director, Promotion Planning and Support Division, Office of Export Promotion Coordination.

[FR Doc. 00-6900 Filed 3-20-00; 8:45 am]

BILLING CODE 3510-DR-U